ENVIRONMENTAL PROTECTION AGENCY

[EPA-HQ-OW-2013-0213; FRL-9803-5]

Notice of Public Meeting/Webinar: EPA Method Development Update on Drinking Water Testing Methods for Contaminant Candidate List Contaminants

AGENCY: Environmental Protection Agency (EPA).

ACTION: Notice of public meeting.

SUMMARY: The U.S. Environmental Protection Agency (EPA) Office of Ground Water and Drinking Water, Standards and Risk Management Division's Technical Support Center (TSC) announces a public meeting/webinar to discuss analytical testing procedures for unregulated contaminants in drinking water that are, or are being considered for inclusion, on the Contaminant Candidate List (CCL). Technical experts from TSC and the EPA Office of Research and Development's National Exposure Research Laboratory Microbiological and Chemical Exposure Assessment Research Division will describe methods currently in development for many CCL contaminants, with an expectation that several of these methods will support future cycles of the Unregulated Contaminant Monitoring Rule (UCMR) program. The agenda for the public meeting/webinar will include time for public comment for those that pre-register to present information and technical input on analytical testing procedures.

DATES: The public meeting/webinar will be held on Wednesday, May 15, 2013, from 9:00 a.m. to 4:30 p.m., Eastern Time. The meeting/webinar materials will be available from May 15, 2013, to June 17, 2013 to accommodate post-meeting comments. Persons wishing to attend the meeting in-person or on-line via the webinar must register by May 1, 2013, as described in the SUPPLEMENTARY INFORMATION section.

ADDRESSES: The public meeting will be held in Room 130/138 at the EPA's Andrew W. Breidenbach Environmental Research Center (AWBERC), 26 West Martin Luther King Drive, Cincinnati, Ohio 45268. All attendees must show government-issued photo identification to enter the building, sign in with the security desk and pass through a metal detector. This meeting will also be simultaneously broadcast as a webinar, available through the Internet. Persons wishing to attend the meeting in-person or on-line via the webinar must register by May 1, 2013, by sending an email to: UCMRWebinar@cadmusgroup.com. Further information about registration, and participation in the meeting, can be found on the EPA's Unregulated Contaminant Monitoring Program Meetings and Materials Web page: http://water.epa.gov/lawsregs/rulesregs/sdwa/ucmr/calendar.cfm.

Submit written comments and technical input (described in the SUPPLEMENTARY INFORMATION section) by one of the following methods:

• www.regulations.gov: Follow the on-line instructions for submitting comments.

• Email: OW-Docket@epa.gov.

• Mail: Water Docket, U.S. Environmental Protection Agency, Mail Code: 28221T, 1200 Pennsylvania Avenue NW., Washington, DC 20460.

• Hand Delivery: Water Docket, U.S. EPA Docket Center (EPA/DC). Such deliveries are only accepted during the Docket's normal hours of operation, and special arrangements should be made for deliveries of boxed information. The EPA Docket Center, Water Docket is located in Room 3334, 1301 Constitution Avenue NW., Washington, DC 20004. The telephone number for the Water Docket is (202) 566-2426.

Instructions: Direct your information to Docket ID No. EPA-HQ-OW-2013-0213. EPA's policy is that all information received will be included in the public docket without change and may be made available online at www.regulations.gov, including any personal information provided, unless the comment includes information claimed to be Confidential Business Information (CBI) or other information whose disclosure is restricted by statute. Do not submit information through www.regulations.gov or email that you consider to be CBI or otherwise protected. If you have such information, you should contact EPA (as described in the FOR FURTHER INFORMATION CONTACT section) for instructions on submitting CBI.

FOR FURTHER INFORMATION CONTACT: Any members of the public who wish to receive further information about the meeting/webinar or have questions about this notice or submission of comments should contact Glynda Smith, Technical Support Center, Standards and Risk Management Division, Office of Ground Water and Drinking Water (MS 140), Environmental Protection Agency, 26 West Martin Luther King Drive, Cincinnati, OH 45268; telephone number: (513) 569-7652; email address: smith.glynda@epa.gov.

SUPPLEMENTARY INFORMATION:

I. General Information

A. Does this action apply to me?

This notice is directed to the public in general; the action does not impose any requirements. The public meeting/webinar may be of interest to persons who conduct chemical or microbiological testing for drinking water contaminants, and in particular those that conduct testing under the UCMR program.

B. How can I get copies of this document and other related information?

This document is available for download at: www.regulations.gov. For other related information, reference Docket ID No. EPA-HQ-OW-2013-0213.

C. How may I participate in this meeting?

Persons interested in attending the meeting in-person or on-line need to register by sending an email to: UCMRWebinar@cadmusgroup.com by May 1, 2013. Comments on the meeting/webinar, including technical input regarding potential drinking water analytical testing procedures for one or more contaminants that are, or are likely to be considered for inclusion, on the CCL may be made during the public comment session of the meeting or in writing to the public docket (see ADDRESSES section). EPA encourages public input and will allocate time for stakeholder presentations of candidate analytical testing procedures based on the number of registrants that sign up to speak and time available in the meeting. EPA requests that only one person present a statement on behalf of a group or organization. To be placed on the public speaker list, send an email to: UCMRWebinar@cadmusgroup.com by May 1, 2013, and indicate that you will be attending the meeting and would like to speak.

Special Accommodations: To request special accommodations for individuals with disabilities, please contact UCMRWebinar@cadmusgroup.com. Please allow at least five business days prior to the meeting to allow time to process your request.

D. How can stakeholders identify potential testing procedures for priority unregulated contaminants?

The public meeting/webinar will provide opportunities to learn about EPA's method development work and to provide public comments. In addition, EPA will be posting the meeting/webinar materials in the Docket No. EPA-HQ-OW-2013-2013 from May 15, 2013, to June 17, 2013, to provide an opportunity for written comments.

EPA's preferred method for submission of written comments about testing procedures is through www.regulations.gov [Docket ID No. EPA-HQ-OW-2013-0213], though other options are described in the ADDRESSES section of this notice. EPA requests that the submitters include: name, affiliation, phone number, mailing address, and email address. However, this information is not required and comments can be submitted anonymously. The following information will be specifically presented in the public meeting/webinar, which commenters should address as applicable:

1. Specify the CCL contaminant(s) that can be analyzed with the drinking water test procedure. Proposed testing procedures should focus on CCL 3 contaminants (https://federalregister.gov/a/E9-24287) or contaminants likely to be considered for CCL 4 (nominated contaminants can be viewed at www.regulations.gov and referencing Docket ID EPA-HQ-OW-2012-0217). Note that EPA is currently developing the draft CCL 4, which includes consideration of the contaminants that were nominated.

2. Specify the sensitivity, accuracy and precision attainable for the contaminant(s) using the test procedure. Testing procedures submitted for consideration are expected to be validated prior to use. Guidelines for test method validation are described by the EPA Forum on Environmental Measurement (FEM) in documents available through the FEM Web site (USEPA 2005, USEPA 2009).

3. To the extent possible, specify the cost, availability, and projected laboratory capacity associated with the technology that is being proposed.

4. Provide complete citations for referenced test methods, including author(s), title, journal (or other publication), and date.

5. Provide contact information for the primary investigator, when available.

II. Background

A. How does EPA identify priority contaminants and collect information to judge their occurrence in drinking water?

The 1996 amendments to the Safe Drinking Water Act (SDWA) established the CCL and UCMR programs to provide information that EPA needs to determine whether particular drinking water contaminants should be regulated. The CCL is a list of contaminants that when published are not subject to any proposed or promulgated national primary drinking water regulations, are known or anticipated to occur in public drinking water systems, and may require regulations under SDWA. While the CCL process identifies contaminants that may require regulation, the UCMR program provides the framework to collect data to help determine whether a contaminant occurs at a frequency and concentration that would be of public health concern. EPA published the third CCL (CCL 3) containing 116 contaminants on October 8, 2009 (74 FR 51850) and the third UCMR (UCMR 3) on May 2, 2012 (77 FR 26072). Monitoring under UCMR 3 began January 1, 2013, and will continue until December 31, 2015.

On May 8, 2012, EPA published a Federal Register notice (77 FR 27057) requesting nominations of chemical and microbial contaminants for possible inclusion in the fourth drinking water Contaminant Candidate List (CCL 4). A summary of the contaminants nominated for inclusion in CCL 4 can be viewed at www.regulations.gov referencing Docket ID EPA-HQ-OW-2012-0217.

B. What is the basis for this action?

Under UCMR, a unique set of up to 30 contaminants is identified every five years for monitoring. In order to correctly identify and quantitate these contaminants in a national monitoring effort, robust testing methods must be available. This public meeting/webinar will provide a forum to hear about and discuss EPA's current drinking water method development for priority contaminants—focusing on CCL 3 and possible CCL 4 contaminants—as well as other testing procedures that may be applicable to these contaminants.

III. References

USEPA. 2005. Validation and Peer Review of U.S. Environmental Protection Agency Chemical Methods of Analysis, FEM Document Number 2005-01. Available at http://www.epa.gov/fem/agency_methods.htm.

USEPA. 2009. Method Validation of U.S. Environmental Protection Agency Microbiological Methods of Analysis, FEM Document Number 2009-01. Available at http://www.epa.gov/fem/agency_methods.htm.

Dated: April 8, 2013.
Peter Grevatt,
Director, Office of Ground Water and Drinking Water.

[FR Doc. 2013-08827 Filed 4-15-13; 8:45 am]

BILLING CODE 6550-50-P